DEPARTMENT OF DEFENSE

Department of the Navy

Notice of Intent To Prepare an Environmental Impact Statement/Overseas Environmental Impact Statement for Hawaii-California Training and Testing Activities

AGENCY: Department of the Navy (DoN), Department of Defense (DoD).

ACTION: Notice.

SUMMARY: Pursuant to the National Environmental Policy Act (NEPA) of 1969, and regulations implemented by the Council on Environmental Quality, the Department of the Navy (DoN)(including both the U.S. Navy and the U.S. Marine Corps) in cooperation with the U.S. Coast Guard, U.S. Army, and U.S. Air Force, announces its intent to prepare the Hawaii-California Training and Testing (HCTT) Environmental Impact Statement (EIS)/Overseas EIS (OEIS). The HCTT EIS/OEIS will include an analysis of range sustainment and modernization activities, training activities; and research, development, testing, and evaluation activities (hereafter referred to as “testing”) that will be conducted in the HCTT Study Area. When discussed together, training and testing are also referred to as “military readiness activities.” The DoN is initiating a 45-day public scoping process to receive comments on the scope of the EIS/OEIS including identification of potential alternatives and environmental concerns, information and analyses relevant to the Proposed Action, issues the public would like to see addressed in the EIS/OEIS, and the project's potential to affect historic properties pursuant to section 106 of the National Historic Preservation Act (NHPA) of 1966.

DATES: The 45-day public scoping period begins on December 15, 2023, and extends to January 29, 2024. The scoping period is extended 15 calendar days (from the usual 30-day period) since it overlaps with the holidays. Comments must be postmarked or submitted electronically via the website no later than 11:59 p.m. Pacific time on January 29, 2024 for consideration in the Draft EIS/OEIS. The DoN will host a virtual open house presentation on the project website during the scoping period to provide information related to the Proposed Action, its purpose and need, environmental resource areas to be analyzed in the EIS/OEIS, the NEPA process, the consultation under NHPA, and public involvement opportunities.

ADDRESSES: The DoN invites all interested parties to submit scoping comments on the EIS/OEIS or information regarding historic properties or section 106 consulting party interest through the project website at http://www.nepa.navy.mil/hctteis or by mail to: Naval Facilities Engineering Systems Command, Pacific, Attention: HCTT EIS/OEIS Project Manager, 258 Makalapa Drive, Suite 100, Pearl Harbor, HI 96860-3134.

FOR FURTHER INFORMATION CONTACT: U.S. Pacific Fleet Command, Attn: Mr. Sean Gano, Environmental Public Affairs Specialist, 808-474-8441, or visit the project website: http://www.nepa.navy.mil/hctteis.

SUPPLEMENTARY INFORMATION: Commander, U.S. Pacific Fleet is the DoN's lead action proponent. Additional DoN action proponents include Naval Sea Systems Command, Naval Air Systems Command, Naval Information Warfare Systems Command, Office of Naval Research, Naval Facilities Engineering Expeditionary Warfare Center, and the U.S. Marine Corps (USMC). In addition, this EIS/OEIS includes certain activities by the U.S. Coast Guard, U.S. Army, and U.S. Air Force when those activities are similar to Navy or Marine Corps activities and are scheduled on Navy controlled at-sea ranges.

Proposed military readiness activities are consistent with those analyzed in the 2018 Hawaii-Southern California Training and Testing (HSTT) EIS/OEIS and the 2022 Point Mugu Sea Range (PMSR) EIS/OEIS, and are representative of training and testing activities that have been conducted off Hawaii and California for more than 80 years.

The EIS/OEIS will include an analysis of military readiness activities using new information including an updated acoustic effects analysis, updated marine mammal density data, and evolving and emergent best available science.

The HCTT Study Area (hereafter referred to as the (“Study Area”) is comprised of established operating and warning areas across the Pacific Ocean, from California west to Hawaii and the International Date Line. The HCTT Study Area differs from the HSTT Study Area in that HCTT includes an extended Southern California (SOCAL) Range Complex; special use airspace corresponding to the new extensions (Proposed W-293 and W-294); two existing training and testing ranges, the PMSR and Northern California (NOCAL) Range Complex; areas along the Southern California coastline from approximately Dana Point to Port Hueneme; and four amphibious approach lanes providing land access from the NOCAL Range Complex and PMSR. The Study Area also includes in-water areas of San Diego Bay, Port Hueneme, and Pearl Harbor, including select pierside facilities associated with DoN ports and naval shipyards and a transit corridor on the high seas and the channels and routes to and from those ports that are not part of the range complexes, where training and testing may occur during vessel transit.

The purpose of the Proposed Action is to ensure U.S. military services are able to organize, train, and equip service members and personnel to meet their respective national defense missions in accordance with their Congressionally mandated requirements ¹ and advance joint interoperability in Navy led exercises with other military service.

¹ 10 United States Code (U.S.C.), sections 8062 (Navy), 8063 (USMC), 7062 (U.S. Army), 9062 (U.S. Air Force) and 14 U.S.C., sections 101 and 102 (USCG).

The Proposed Action is to conduct at-sea military readiness activities and range modernization within HCTT the Study Area. Activities include the use of active sonar and explosives while employing marine species protective mitigation measures.

The Navy has identified two preliminary action alternatives to carry forward for analysis in the EIS/OEIS along with the No Action Alternative. Alternative 1 reflects a representative year of training and testing to account for the natural fluctuation of training cycles and deployment schedules that generally limit the maximum level of training occurring every year over any seven-year period. Alternative 2 reflects the maximum number of training and testing activities that could occur within a given year and assumes that the maximum level of activity would occur every year over any seven-year period. As required by NEPA for the purpose of establishing a baseline for analysis, a No Action Alternative will be evaluated which represents a scenario where no military readiness activities are conducted in the Study Area. The tempo and types of training and testing activities have fluctuated because of the introduction of new technologies, the evolving nature of international events, advances in war fighting doctrine and procedures, and changes in force structure (organization of ships, submarines, aircraft, weapons, and Sailors). Such developments influence the frequency, duration, intensity, and location of required training and testing activities. The HCTT EIS/OEIS will reflect the current compilation of training and testing activities required to fulfill the military readiness requirements, and therefore both action alternatives include the analysis of newly proposed activities and changes to previously analyzed activities. Additionally, both action alternatives will include modernization and sustainment of ranges necessary to support military readiness activities. Modernization and sustainment proposals include new special use airspace in Southern California, an expansion of an underwater training range near San Clemente Island, and installation and maintenance of mine training areas off Hawaii and California.

Environmental resources that are determined to be potentially affected are carried forward for full analysis. Resources to be evaluated include, but are not limited to, biological resources (including marine mammals, reptiles, fishes, vegetation, invertebrates, habitats, birds, and other protected species), sediments and water quality, air quality, cultural resources, socioeconomic resources, and public health and safety. The EIS/OEIS will also analyze measures that would avoid, minimize, or mitigate environmental effects. The Navy will conduct all coordination and consultation activities required by the Marine Mammal Protection Act (MMPA), NHPA, Endangered Species Act (ESA), National Marine Sanctuaries Act, Magnuson-Stevens Fishery Conservation and Management Act, Clean Water Act, Rivers and Harbor Act, Coastal Zone Management Act, Clean Air Act, and other laws and regulations determined to be applicable to the project. As part of this process, the DoN will seek the issuance of regulatory permits and authorizations under MMPA and ESA to support at-sea mission readiness activities within the Study Area, beginning in December 2025.

Pursuant to 40 CFR 1501.8, the DoN invited the National Marine Fisheries Service and the Federal Aviation Administration to be cooperating agencies in preparation of the EIS/OEIS.

The scoping process invites comments on the scope of the EIS/OEIS including identification of potential alternatives, information and analyses relevant to the Proposed Action, identification of environmental concerns, issues the public would like to see addressed in the EIS/OEIS, and the projects potential to affect historic properties pursuant to Section 106 of the NHPA. Parties with demonstrated interest in the undertaking and its effects on historic properties may request to become a consulting party in the section 106 process. Federal agencies, State agencies, local agencies, Native American Indian Tribes and Nations, Native Hawaiian Organizations, the public, and interested persons are encouraged to provide comments.

Comments must be postmarked or submitted electronically via the website no later than 11:59 p.m. Pacific time on January 29, 2024 for consideration during the development of the Draft EIS/OEIS. Comments can be submitted electronically via the project website at http://www.nepa.navy.mil/hctteis or mailed to the address noted above.

After the scoping period, DoN will coordinate with participating and cooperating agencies to develop a Draft EIS/OEIS. The DoN intends to release the Draft EIS/OEIS in the fall of 2024, release the Final EIS/OEIS in the fall of 2025, and sign a Record of Decision following the 30-day Final EIS/OEIS wait period.

Dated: December 4, 2023.
J.E. Koningisor,
Lieutenant Commander, Judge Advocate General's Corps, U.S. Navy, Federal Register Liaison Officer.

[FR Doc. 2023-26905 Filed 12-14-23; 8:45 am]

BILLING CODE 3810-FF-P